DEPARTMENT OF TRANSPORTATION

Federal Highway Administration

Environmental Impact Statement: Wayne County, MI

AGENCY: Federal Highway Administration (FHWA), DOT.

ACTION: Notice of intent.

SUMMARY: The FHWA is issuing this notice to advise the public that an Environmental Impact Statement will be prepared for proposed international border crossing improvements in Wayne County, Michigan, including improvements to existing infrastructure, new border crossing(s) and new or expanded border processing facilities. The study is being undertaken in partnership with Transport Canada, the Michigan Department of Transportation, and the Ontario Ministry of Transportation referred to below as the Border Partnership.

FOR FURTHER INFORMATION CONTACT: In the United States, James A. Kirschensteiner, Assistant Division Administrator, Federal Highway Administration, 315 West Allegan Street, Room 207, Lansing, Michigan 48933, Telephone: (517) 702-1835, Fax: (517) 377-1804, email: james.kirchensteiner@fhwa.dot.gov. Or, Margaret Barondess, Manager, Environmental Section, Michigan Department of Transportation, P.O. Box 30050, Lansing, Michigan 48909, Telephone: (517) 335-2621, Fax: (517) 373-9255, email: barondessm@michigan.gov.

In Canada, James Lothrop, Manager Highway Programs, Transport Canada, Tower C, Place de Ville 18th Floor, 330 Sparks Street, Ottawa, ON K1A ON5, Telephone: (613) 998-1902, Fax: (613) 990-9636, email: lothroj@tc.gc.ca. Or, Fred Leech, Project Coordinator Ontario Ministry of Transportation (MTO), MTO Head Office, Garden City Tower, 4th Floor 301 St. Paul Street, St. Catherines, Ontario, L2R 7R4, Telephone: (905) 704-2218, Fax: (905) 704-2007, email: Fred.Leech@mto.gov.on.ca.

SUPPLEMENTARY INFORMATION: The FHWA, as a member of the Bi-National Border Partnership, will prepare an Environmental Impact Statement for a proposal to develop transportation improvements to alleviate traffic congestion and address future travel demand and capacity between southeast Michigan and southwest Ontario as identified in a Planning Needs and Feasibility study. The project would identify the purpose and evaluate needs, potential improvements to existing infrastructure, including new crossings, the potential for expansion or implementation of all modes of transportation (rail, highway, marine, etc.) and the need for new or improved border processing facilities to improve the safe and secure flow of people, goods, and services across the international border. Improvements are considered necessary to provide for increased international movement efficiencies both regionally and nationally.

The existing geographical international ways and means in Southeast Michigan and Southwest Ontario include the Blue Water bridges, the Detroit-Windsor Tunnel, the Ambassador Bridge, and railroad tunnels between Windsor and Detroit and Port Huron, Michigan, and Sarnia, Ontario, as well as a ferry that operates on the Detroit River.

Alternatives under consideration include: (1) Taking no action; (2) improving existing facilities to increase their capacity to move goods, services, and people; (3) construction of a new crossing or crossings to increase capacity and provide redundancy; (4) expansion or implementation of non-highway modes of transportation (rail, marine, etc.); or (5) some combination of (2), (3), and (4). As part of the EIS, an Enhanced Scoping Information Package will be prepared. The Scoping Information Package will describe alternative locations for improving international crossing activity in southeast Michigan; inventory and map known resources; identify and map social, economic, and environmental constraints; and select practical alternatives. Letters describing the proposed action and soliciting comments will be sent to appropriate Federal, State, and local agencies, and to private organizations and citizens who have previously expressed, or are known to have, an interest in this proposal. Cooperating Federal agencies will be solicited.

A series of public meetings were held in Detroit, Michigan, Windsor, Ontario, and Sarnia, Ontario, on November 12-14, 2002. Other public meetings are planned as is a formal public hearing for the draft environmental impact statement. Public notice will be given of the time and place of the meetings and hearing. Meetings to review the enhanced Scoping Information Package will be held on dates yet to be determined.

To ensure that the full range of issues related to this proposed action are addressed and all significant issues identified, comments and suggestions are invited from all interested parties. Comments or questions concerning this proposed action should be directed to the FHWA at the address provided above.

(Catalog of Federal Domestic Assistance Program Number 20.205, Highway Planning and Construction. The regulations implementing Executive Order 12372 regarding intergovernmental consultation of Federal programs and activities apply to this program).

Issued on: March 14, 2003.
James J. Steele,
Division Administrator, Lansing, Michigan.

[FR Doc. 03-6927 Filed 3-21-03; 8:45 am]

BILLING CODE 4910-22-M